DEPARTMENT OF HEALTH AND HUMAN SERVICES

Solicitation for Written Comments on the Development of Healthy People 2020

AGENCY: Department of Health and Human Services, Office of the Secretary, Office of Public Health and Science, Office of Disease Prevention and Health Promotion.

ACTION: Notice.

Authority: 42 U.S.C. 200u.

SUMMARY: The Office of Disease Prevention and Health Promotion (ODPHP), Office of Public Health and Science (OPHS), U.S. Department of Health and Human Services (HHS), is soliciting written comments on key elements of Healthy People 2020, including the vision, mission, overarching goals and framework. Every 10 years, through the Healthy People initiative, HHS leverages scientific insights and lessons from the past decade, along with the new knowledge of current data, trends, and innovations to develop the next iteration of national health promotion and disease prevention objectives. Healthy People provides science-based, 10-year national objectives for promoting health and preventing disease. Since 1979, Healthy People has set and monitored national health objectives to meet a broad range of health needs, encourage collaborations across sectors, guide individuals toward making informed health decisions, and measure the impact of our prevention and health promotion activities. Healthy People 2020 will reflect assessments of major risks to health and wellness, changing public health priorities, and emerging issues related to our nation's health preparedness and prevention.

Background: The Healthy People process is inclusive: its strength is directly tied to collaboration. The development process strives to maximize transparency, public input and stakeholder dialogue to ensure that Healthy People 2020 is relevant to diverse public health needs and seizes opportunities to achieve its goals. Since its inception, Healthy People has become a broad-based, public engagement initiative with thousands of citizens helping to shape it at every step along the way. Drawing on the expertise of a Secretary's Advisory Committee on National Health Promotion and Disease Prevention Objectives for 2020 and public input, Healthy People will organize and establish a framework to address risk factors and determinants of health and the diseases and disorders that are affecting our communities.

Public participation will shape Healthy People 2020, its purpose, goals, organization, and action plans. HHS has sought input from communities and stakeholders across the nation through six regional meetings and is soliciting written public comments on the development of Healthy People 2020 through an online public comment database. As a national initiative, Healthy People's success depends on a coordinated commitment to improve the health of the nation. Individuals may subscribe to the listserv at: http://www.healthypeople.gov/Contact for the latest information on Healthy People 2020 and to receive email notices of related Healthy People 2020. Healthy People 2020 will be released in two-phases. The vision, mission, overarching goals, and organizing framework will be released in late 2008-early 2009. A year later, in January 2010, the specific Healthy People 2020 objectives with baselines and targets will be released.

DATES: In order for comments on the proposed vision, mission, overarching goals, and framework for Healthy People 2020 to be considered by the Secretary's Advisory Committee on National Health Promotion and Disease Prevention Objectives for 2020, written comments must be submitted via the Internet at the Healthy People Web site http://www.healthypeople.gov/hp2020/comments by the close of business Eastern Daylight Time on September 2, 2008. Comments submitted to the Web site after September 2, 2008 and before September 15, 2008 will be considered by HHS but not reviewed by the Secretary's Advisory Committee.

ADDRESSES: The proposed vision, mission, overarching goals, and framework for Healthy People 2020 can be viewed and commented on at http://www.healthypeople.gov/hp2020/Comments.

FOR FURTHER INFORMATION CONTACT: E-mail the Office of Disease Prevention and Health Promotion, Office of Public Health and Science, U.S. Department of Health and Human Services, at HP2020@hhs.gov or to Hilary Scherer at HP2020@norc.org (e-mail), (301) 634-9374 (phone) or (301) 634-9301 (fax).

Dated: July 24, 2008.
Penelope Slade Royall,
RADM, USPHS, Deputy Assistant Secretary for Health, (Disease Prevention and Health Promotion).

[FR Doc. E8-18299 Filed 8-7-08; 8:45 am]

BILLING CODE 4150-32-P